DEPARTMENT OF COMMERCE

National Oceanic and Atmospheric Administration

RIN: 0648-XQ66

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council will hold a meeting of its King and Spanish Mackerel (Mackerel) Advisory Panel in North Charleston, SC. See SUPPLEMENTARY INFORMATION.

DATES: The meeting will take place August 18-19, 2009. See SUPPLEMENTARY INFORMATION for specific dates and times.

ADDRESSES: The meeting will be held at the Hilton Garden Inn, 5265 International Boulevard, North Charleston, SC; telephone: (843) 308-9330.

FOR FURTHER INFORMATION CONTACT: Kim Iverson, Public Information Officer, South Atlantic Fishery Management Council, 4055 Faber Place Drive, Suite 201, N. Charleston, SC 29405; telephone: (843) 571-4366 or toll free (866) SAFMC-10; fax: (843) 769-4520; email: kim.iverson@safmc.net.

SUPPLEMENTARY INFORMATION: Members of the Mackerel Advisory Panel will meet from 1 p.m. until 5 p.m. on August 18, 2009, and from 8:30 a.m. until 3 p.m. on August 19, 2009.

The Advisory Panel will review actions and management alternatives in draft Amendment 18 to the Fishery Management Plan (FMP) for the Coastal Migratory Pelagic Resources (Mackerels) in the Gulf of Mexico and South Atlantic Region. The joint amendment is being prepared in order to meet the mandates of the Reauthorized Magnuson-Stevens Act, including the establishment of Maximum Sustainable Yield (MSY), Allowable Biological Catch (ABC) and Overfishing Levels (OFLs) as recommended by both the Gulf of Mexico Fishery Management Council's Scientific and Statistical Committee (SSC) and the South Atlantic Council's SSC, Annual Catch Limits (ACLs), Annual Catch Targets (ACTs) and Accountability Measures (AMs) for Gulf Migratory Group king mackerel, Gulf Migratory Group Spanish mackerel, South Atlantic Migratory Group king mackerel, South Atlantic Migratory Group Spanish Mackerel, and cobia in both the Gulf of Mexico and South Atlantic. The amendment also includes alternatives for establishing a Gulf Migratory Group and South Atlantic Migratory Group for cobia, additions to Framework procedures that would include stock assessments through the Southeast Data, Assessment, and Review (SEDAR) stock assessment program, OFLs, ABCs, ACLs and possibly Annual Catch Targets (ACTs) to the list of items that can be modified through Framework actions, and an alternative to prohibit the sale of recreational bag limit Atlantic Migratory Group king mackerel.

The AP will provide recommendations to the Council regarding the alternatives in the draft amendment. The Gulf of Mexico Fishery Management Council is taking the lead in development of joint Amendment 18.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

This meeting is physically accessible to people with disabilities. Requests for auxiliary aids should be directed to the council office (see ADDRESSES) 3 days prior to the meeting.

Note: The times and sequence specified in this agenda are subject to change.

Dated: July 29, 2009.
Tracey L. Thompson,
Acting Director, Office of Sustainable Fisheries, National Marine Fisheries Service.

[FR Doc. E9-18410 Filed 7-31-09; 8:45 am]

BILLING CODE 3510-22-S